NATIONAL TRANSPORTATION SAFETY BOARD

Sunshine Act Meeting; Notice

AGENDA

TIME AND DATE: 9:30 a.m., Tuesday, June 13, 2000.

PLACE: NTSB Board Room, 429 L'Enfant Plaza, S.W., Washington, DC 20594.

STATUS: Open to the Public.

MATTERS TO BE CONSIDERED:

7266 Safety Recommendations: To the Federal Aviation Administration (FAA) to prevent Runway

7128A Hazardous Materials Accident Briefs: Whitehall, Michigan and Louisville, Kentucky.

NEWS MEDIA CONTACT: Telephone: (202) 314-6100.

Individuals requesting specific accommodation should contact Mrs. Barbara Bush at (202) 314-6220 by Friday, June 9, 2000.

FOR MORE INFORMATION CONTACT: Rhonda Underwood (202) 314-6065.

Dated: June 2, 2000.
Rhonda Underwood,
Federal Register Liaison Officer.

[FR Doc. 00-14347 Filed 6-2-00; 3:17 pm]

BILLING CODE 7533-01-M